FEDERAL RETIREMENT THRIFT INVESTMENT BOARD

Board Member Meeting

77 K Street NE, 10th Floor, Washington, DC 20002

February 24, 2020, 8:30 a.m., Telephonic

Open Session

1. Approval of the Minutes of the January 27, 2020 Board Meeting

2. Monthly Reports

(a) Participant Activity Report

(b) Investment Performance

(c) Legislative Report

3. Quarterly Reports

(d) Metrics

4. Office of External Affairs Annual Report

5. Omni Audit Report

6. Annual FISMA Audit Results

Closed Session

Information covered under 5 U.S.C. 552b (c)(4), (c)(9)(b), and (c)(10).

Contact Person for More Information: Kimberly Weaver, Director, Office of External Affairs, (202) 942-1640.

Dated: February 13, 2020.
Megan Grumbine,
General Counsel, Federal Retirement Thrift Investment Board.

[FR Doc. 2020-03269 Filed 2-19-20; 8:45 am]

BILLING CODE 6760-01-P